DEPARTMENT OF HEALTH AND HUMAN SERVICES

Administration for Children and Families

[OMB No. 0970-0506]

Submission for OMB Review; Evaluation of Employment Coaching for TANF and Related Populations

AGENCY: Office of Planning, Research, and Evaluation, Administration for Children and Families, HHS.

ACTION: Request for public comment.

SUMMARY: The Administration for Children and Families (ACF) is proposing to continue ongoing approved data collection activities and add additional activities for the sample enrolled in the Evaluation of Employment Coaching for TANF and Related Populations (Office of Management and Budget (OMB)#: 0970-0506). This includes (1) an extension for the previously approved second follow-up survey data collection; (2) new data collection through a third follow-up survey; and (3) new data collection through follow-up semi-structured interviews with management, staff, supervisors, and participants.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. All emailed requests should be identified by the title of the information collection.

SUPPLEMENTARY INFORMATION:

Description: This study is providing an opportunity to learn more about the potential of coaching to help clients achieve self-sufficiency and other desired employment-related outcomes. It includes the following employment programs: MyGoals for Employment Success in Baltimore; MyGoals for Employment Success in Houston; Family Development and Self-Sufficiency program in Iowa; LIFT in New York City, Chicago, and Los Angeles; Work Success in Utah; and Goal4 It! in Jefferson County, Colorado. Together, these programs include Temporary Assistance for Needy Families (TANF) agencies and other public or private employment programs that serve low-income individuals. Each site has a robust coaching component and the capacity to conduct a rigorous impact evaluation. This study is providing information on whether coaching helps people develop self-regulation skills, obtain and retain jobs, advance in their careers, move toward self-sufficiency, and improve their overall well-being. To meet these objectives, this study includes an impact and implementation study, as approved by OMB. The approved impact study initially included two follow-up surveys at approximately 9 months and 21 months, respectively, after random assignment.

This submission, in part, builds on the existing impact study, which randomly assigned participants to either a “program group,” who were paired with a coach, or to a “control group,” who were not paired with a coach. The effectiveness of the coaching will be determined by differences between members of the program and control groups in outcomes such as obtaining and retaining employment, earnings, measures of self-sufficiency, and measures of self-regulation.

The proposed extension for the second follow-up survey data collection under OMB #0970-0506 will allow for continued follow-up in the evaluation sites. The extension is necessary to complete the second follow-up survey. There are no changes to the previously approved information collection. Additionally, the proposed new information collection through a third follow-up survey will provide information about participants at least 4 years after random assignment. This activity will provide rigorous evidence on whether the coaching interventions are effective, for whom, and under what circumstances over the longer term. The information collected at a later follow-up point will be used to assess how employment coaching might have a continued effect on participants long after they have left coaching programs.

This submission also builds on the existing implementation study. The proposed new information collection through follow-up semi-structured interviews with management, staff, supervisors, and participants under OMB #0970-0506 will enable additional input from employment coaching program staff and participants on the processes and perceptions of employment coaching. The proposed new data collection instruments will provide descriptive information about how coaches form trusting relationships with their participants and other key topics that have emerged as important in analysis of previously collected study data.

Respondents: Individuals enrolled in the Evaluation of Employment Coaching for TANF and Related Populations study. All participants will be able to opt out of participating in the data collection activities.

Annual Burden Estimates—Burden Remaining From Previously Approved Information Collections
Instrument | Number of respondents (total over request period) | Number of responses per respondent (total over request period) | Avg. burden per response (in hours) | Annual burden (in hours)
Second follow-up survey | 824 | 1 | 0.75 | 618
Note: Data collection for the second follow-up is expected to be completed within the next year.

Estimated Total Annual Burden Hours: 618.

New Burden Requested
Instrument | Number of respondents (total over request period) | Number of responses per respondent (total over request period) | Avg. burden per response (in hours) | Total burden (in hours) | Annual burden (in hours)
Third follow-up survey | 4,239 | 1 | 0.75 | 3,179 | 1,060
Semi-structured management interviews | 20 | 1 | 1 | 20 | 7
Semi-structured staff and supervisor interviews | 40 | 1 | 1 | 40 | 13
Semi-structured participant interviews, MyGoals | 14 | 1 | 2.5 | 35 | 12
Semi-structured participant interviews, LIFT | 7 | 1 | 2 | 14 | 5
Semi-structured participant interviews, FaDSS and Goal4 It! | 14 | 1 | 1.5 | 21 | 7
Note: New data collection is expected to take place over about 3 years.

Estimated Total Annual Burden Hours: 1,104.

Authority: 42 U.S.C. 613.

Mary B. Jones,
ACF/OPRE Certifying Officer.

[FR Doc. 2022-08495 Filed 4-20-22; 8:45 am]

BILLING CODE 4184-09-P